FEDERAL ACCOUNTING STANDARDS ADVISORY BOARD

Meeting Schedule for 2010

AGENCY: Federal Accounting Standards Advisory Board.

ACTION: Notice.

Board Action: Pursuant to 31 U.S.C. 3511(d), the Federal Advisory Committee Act (Pub. L. No. 92-463), as amended, and the FASAB Rules Of Procedure, as amended in April, 2004, notice is hereby given that the Federal Accounting Standards Advisory Board (FASAB) will meet on the following dates in Room 7C13 of the U.S. Government Accountability Office (GAO) Building (441 G Street, NW.,) unless otherwise noted:

—Wednesday and Thursday, February 24 and 25, 2010.

—Wednesday and Thursday, April 28 and 29, 2010.

—Wednesday and Thursday, June 23 and 24, 2010.

—Wednesday and Thursday, August 25 and 26, 2010.

—Wednesday and Thursday, October 27 and 28, 2010.

—Thursday and Friday, December 16 and 17, 2010.

The purposes of the meetings are to discuss issues related to:

—FASAB's conceptual framework,

—Stewardship Reporting,

—Social Insurance,

—Natural Resources,

—Deferred Maintenance/Asset Impairment,

—Technical Agenda, and

—Any other topics as needed.

A more detailed agenda can be obtained from the FASAB Web site (www.fasab.gov) one week prior to each meeting.

Any interested person may attend the meetings as an observer. Board discussion and reviews are open to the public. GAO Building security requires advance notice of your attendance. Please notify FASAB of your planned attendance by calling 202-512-7350 at least one day prior to the respective meeting.

FOR FURTHER INFORMATION CONTACT: Wendy M. Payne, Executive Director, 441 G St., NW., Mail Stop 6K17V, Washington, DC 20548, or call (202) 512-7350.

Authority: Federal Advisory Committee Act, Public Law No. 92-463.

Dated: March 18, 2009.
Charles Jackson,
Federal Register Liaison Officer.

[FR Doc. E9-6344 Filed 3-24-09; 8:45 am]

BILLING CODE 1610-01-M